DEPARTMENT OF COMMERCE

National Oceanic and Atmospheric Administration

[I.D. 032706B]

Magnuson-Stevens Act Provisions; Fisheries of the Northeastern United States; Northeast Multispecies Fishery; 2006 Georges Bank Cod Hook Sector Operations Plan and Agreement and Allocation of Georges Bank Cod Total Allowable Catch

AGENCY: National Marine Fisheries Service (NMFS), National Oceanic and Atmospheric Administration (NOAA), Commerce.

ACTION: Notice; request for comments.

SUMMARY: Amendment 13 to the Northeast (NE) Multispecies Fishery Management Plan (FMP) (Amendment 13) authorized allocation of up to 20 percent of the annual Georges Bank (GB) cod total allowable catch (TAC) to the GB Cod Hook Sector (Sector). Pursuant to that authorization, the Sector has submitted an Operations Plan and Sector Contract entitled, “Amendment 2 to Georges Bank Cod Hook Sector Operations Plan and Agreement” (together referred to as the Sector Agreement), and a Supplemental Environmental Assessment (EA), and has requested an allocation of GB cod, consistent with regulations implementing Amendment 13. This notice provides interested parties an opportunity to comment on the proposed Sector Agreement prior to final approval or disapproval of the Sector Operations Plan and allocation of GB cod TAC to the Sector for the 2006 fishing year (FY).

DATES: Written comments must be received on or before April 14, 2006.

ADDRESSES: Written comments should be sent to Patricia A. Kurkul, Regional Administrator, NMFS, Northeast Regional Office, 1 Blackburn Drive, Gloucester, MA 01930. Mark the outside of the envelope “Comments on GB Cod Hook Sector Operations Plan.” Comments may also be sent via fax to (978) 281-9135, or submitted via e-mail to: codsector@NOAA.gov.

Copies of the Sector Agreement and the EA are available from the NE Regional Office at the mailing address specified above.

FOR FURTHER INFORMATION CONTACT: Thomas Warren, Fishery Policy Analyst, phone (978) 281-9347, fax (978) 281-9135, e-mail Thomas.Warren@NOAA.gov.

SUPPLEMENTARY INFORMATION: NMFS announces that the Administrator, Northeast Region, NMFS (Regional Administrator), has made a preliminary determination that the Sector Agreement, which contains the Sector Contract and Operations Plan, is consistent with the goals of the FMP and other applicable law and is in compliance with the regulations governing the development and operation of a sector as specified under 50 CFR 648.87. The final rule implementing Amendment 13 (69 FR 22906, April 27, 2004) specified a process for the formation of sectors within the NE multispecies fishery and the allocation of TAC for a specific groundfish species (or days-at-sea (DAS)), implemented restrictions that apply to all sectors, authorized the GB Cod Hook Sector, established the GB Cod Hook Sector Area (Sector Area), and specified a formula for the allocation of GB cod TAC to the Sector.

The principal Amendment 13 regulations applying to the Sector specify that: (1) All vessels with a valid limited access NE multispecies DAS permit are eligible to participate in the Sector, provided they have documented landings of GB cod through valid dealer reports submitted to NMFS of GB cod during FY 1996 through 2001 when fishing with hook gear (i.e., jigs, demersel longline, or handgear); (2) membership in the Sector is voluntary, and each member would be required to remain in the Sector for the entire fishing year and could not fish outside the NE multispecies DAS program during the fishing year, unless certain conditions are met; (3) vessels fishing in the Sector (participating vessels) would be confined to fishing in the Sector Area, which is that portion of the GB cod stock area north of 39°00′ N. lat. and east of 71°40′ W. long; and (4) participating vessels would be required to comply with all pertinent Federal fishing regulations, unless specifically exempted by a Letter of Authorization, and the provisions of an approved Operations Plan.

While Amendment 13 authorized the Sector, in order for GB cod to be allocated to the Sector and the Sector authorized to fish, the Sector must submit an Operations Plan and Sector Contract to the Regional Administrator annually for approval. The Operations Plan and Sector Contract must contain certain elements, including a contract signed by all Sector participants and a plan containing the management rules that the Sector participants agree to abide by in order to avoid exceeding the allocated TAC. An additional analysis of the impacts of the Sector's proposed operations may be required in order to comply with the National Environmental Policy Act. Further, the public must be provided an opportunity to comment on the proposed Operations Plan and Sector Contract. The regulations require that, upon completion of the public comment period, the Regional Administrator will make a determination regarding approval of the Sector Contract and Operations Plan. If approved by the Regional Administrator, participating vessels would be authorized to fish under the terms of the Operations Plan and Sector Contract.

The Sector was authorized for FY 2005 and, based upon the GB cod landings history of its 49 members, was allocated 455 mt of cod, which is 11.12 percent of the total FY 2005 GB cod TAC.

On March 8, 2006, the Sector Manager submitted to NMFS Amendment 2 to the 2004 Sector Agreement and a supplemental EA entitled “The Georges Bank Cod Hook Sector Operations Plan,” which analyzes the impacts of the proposed Sector Agreement.

With three substantive exceptions, the proposed 2006 Sector Agreement contains the same elements as the 2005 Sector Agreement. The first modification to the 2005 Sector Agreement is an exemption from the differential DAS requirements proposed in both the Secretarial emergency action (71 FR 11060, March 3, 2006) and Framework Adjustment (FW) 42, which has been approved by the New England Fishery Management Council, but not yet proposed through Federal Register publication. If approved, implementation of the emergency action is expected to occur in time for the start of the May 1, 2006, fishing year, followed by FW 42 in mid-summer 2006. Under the Sector Agreement, Sector vessels would be subject to the following trip limits during FY 2006: A 100-lb (45.4-kg) trip limit for Cape Cod, GB, and Southern New England (SNE)/Mid-Atlantic (MA) yellowtail flounder; a 2,000-lb (907.2-kg) GB winter flounder trip limit; and a 1,000-lb (453.6-kg)/DAS white hake trip limit. These trip limits are more restrictive or, in the case of white hake, comparable, to the trip limits proposed under FW 42 and, therefore, substitute for differential DAS accounting under both the proposed Secretarial emergency action and FW 42. The proposed FW 42 differential DAS areas within inshore GOM and the SNE/MA Regulated Mesh Area are proposed primarily to protect yellowtail flounder and, in the case of GOM, cod. Because Sector vessels are subject to a hard cod TAC, and because they catch very little yellowtail flounder (a total of 7 lb (3.2 kg) of yellowtail flounder was landed by Sector vessels in FY 2004), an exemption from differential DAS counting would not compromise the FMP fishing mortality objectives for these stocks of concern.

The second modification proposed in the 2006 Sector Agreement is an exemption from the 72-hr observer notification requirement when fishing under an A DAS in the Western U.S./Canada Area. Vessels are currently required to notify the Observer Program 72 hr prior to leaving the dock when intending to fish under a NE multispecies DAS in the U.S./Canada Management Area. This measure was implemented under Amendment 13 in order to help monitor the hard TACs for the U.S./Canada shared stocks of GB cod, haddock, and yellowtail flounder. All three of these stocks are shared in the Eastern U.S./Canada Area; however, only GB yellowtail flounder is shared in the Western U.S./Canada Area. Therefore, because Sector vessels catch virtually no yellowtail flounder, the Sector Agreement proposes to exempt Sector vessels from the 72-hr notification requirement in the Western U.S./Canada Area. This exemption would not impact the ability of NMFS to monitor the U.S./Canada GB yellowtail flounder TAC.

The third modification proposed in the 2006 Sector Agreement is an exemption from the DAS Leasing Program vessel size restrictions. Under the current DAS Leasing Program, vessels may only lease DAS to a lessee vessel with a baseline engine horsepower rating that is no more than 20 percent greater, and a baseline length overall (LOA) that is no more than 10 percent greater, than the baseline engine horsepower and the LOA, respectively, of the lessor vessel. Under the Sector Agreement, Sector vessels would be allowed to lease DAS to other Sector vessels without being subject to these vessel size restrictions. This exemption is not expected to increase effort within the Sector, since the size of the vessel is not the limiting factor with respect to the number of hooks that can be fished on board each vessel. Rather, the limiting factor to the number of hooks that can be fished is the tidal flow velocity between tides when vessels set and retrieve hooks. Because Sector vessels are currently constrained to leasing DAS only to the small pool of vessels within the Sector (50 vessels as indicated in the 2006 Sector Agreement), this exemption would provide additional flexibility while not compromising conservation objectives.

The Sector Agreement would be overseen by a Board of Directors and a Sector Manager. The Sector Agreement specifies, in accordance with Amendment 13, that the Sector's GB cod TAC would be based upon the number of Sector members and their historic landings of GB cod. The GB cod TAC is a “hard” TAC, meaning that, once the TAC is reached, Sector vessels could not fish under a DAS, possess or land GB cod or other regulated species managed under the FMP (regulated species), or use gear capable of catching groundfish (unless fishing under charter/party or recreational regulations).

As of March 8, 2005, 50 prospective Sector members had signed the 2006 Sector Contract. The GB cod TAC calculation is based upon the historic cod landings of the participating Sector vessels, using all gear. The allocation percentage is calculated by dividing the sum of total landings of GB cod by Sector members for the FY 1996 through 2001, by the sum of the total accumulated landings of GB cod harvested by all NE multispecies vessels for the same time period (113,278,842 lb (51,383.9 mt)). The resulting number is 11.53 percent. Based upon these 50 prospective Sector members, the Sector TAC of GB cod would be 707 mt (11.53 percent times the fishery-wide GB cod target TAC of 6,132 mt, respectively). The fishery-wide GB cod target TAC of 6,132 mt is less than the GB cod target TAC proposed for 2006 (7,458 mt) because the 7,458 mt includes Canadian catch. That is, the fishery-wide GB cod target TAC of 6,132 mt was calculated by subtracting the GB cod TAC specified for Canada under the U.S./Canada Resource Sharing Understanding for FY 2006 (1,326 mt), from the overall GB cod target TAC of 7,458 mt proposed by the Council for FY 2006 (71 FR 12665, March 13, 2006). If prospective members of the Sector change their minds after the publication of this notice and prior to a final decision by the Regional Administrator, it is possible that the total number of participants in the Sector and the TAC for the Sector may be reduced from the numbers above.

The Sector Agreement contains procedures for the enforcement of the Sector rules, a schedule of penalties, and provides the authority to the Sector Manager to issue stop fishing orders to members of the Sector. Participating vessels would be required to land fish only in designated landing ports and would be required to provide the Sector Manager with a copy of the Vessel Trip Report (VTR) within 48 hours of offloading. Dealers purchasing fish from participating vessels would be required to provide the Sector Manager with a copy of the dealer report on a weekly basis. On a monthly basis, the Sector Manager would transmit to NMFS a copy of the VTRs and the aggregate catch information from these reports. After 90 percent of the Sector's allocation has been harvested, the Sector Manager would be required to provide NMFS with aggregate reports on a weekly basis. A total of 1/12 of the Sector's GB cod TAC, minus a reserve, would be allocated to each month of the fishing year. GB cod quota that is not landed during a given month would be rolled over into the following month. Once the aggregate monthly quota of GB cod is reached, for the remainder of the month, participating vessels could not fish under a NE multispecies DAS, possess or land GB cod or other regulated species, or use gear capable of catching regulated NE multispecies. Once the annual TAC of GB cod is reached, Sector members could not fish under a NE multispecies DAS, possess or land GB cod or other regulated species, or use gear capable of catching regulated NE multispecies for the rest of the fishing year. The harvest rules would not preclude vessels from fishing under the charter/party or recreational regulations, provided the vessel fishes under the applicable charter/party and recreational rules on separate trips. For each fishing trip, participating vessels would be required to fish under the NE multispecies DAS program to account for any incidental groundfish species that they may catch while fishing for GB cod. In addition, participating vessels would be required to call the Sector Manager prior to leaving port. There would be no trip limit for GB cod for participating vessels. All legal-sized cod caught would be retained and landed and counted against the Sector's aggregate allocation. Participating vessels would not be allowed to fish with or have on board gear other than jigs, non-automated demersal longline, or handgear, and could use an unlimited number of hooks in the Sector Area. NE multispecies DAS used by participating vessels while conducting fishery research under an Exempted Fishing Permit during the FY 2006 would be deducted from that Sector member's individual DAS allocation. Similarly, all GB cod landed by a participating vessel while conducting research would count toward the Sector's allocation of GB cod TAC. Participating vessels would be exempt from the GB Seasonal Closure Area during May.

The EA prepared for the Sector operations concludes that the biological impacts of the Sector will be positive because the hard TAC and the use of DAS will provide two means of restricting both the landings and effort of the Sector. Implementation of the Sector would have a positive impact on essential fish habitat (EFH) and bycatch by allowing a maximum number of hook vessels to remain active in the hook fishery, rather than converting to (or leasing DAS to) other gear types that have greater impacts on EFH. The analysis of economic impacts of the Sector concludes that Sector members would realize higher economic returns if the Sector were implemented. The EA asserts that fishing in accordance with the Sector Agreement rules enables more efficient harvesting of GB cod with hook gear than would be possible if the vessels were fishing in accordance with the common pool (non-Sector) rules. The social benefits of the Sector would accrue to Sector members as well as the Chatham/Harwichport, MA, community, which is highly dependent upon groundfish revenues. The EA concludes that the self-governing nature of the Sector and the development of rules by the Sector enables stewardship of the cod resource by Sector members. The cumulative impacts of the Sector are expected to be positive due to a positive biological impact, neutral impact on habitat, and a positive social and economic impact. In contrast, the cumulative impact of the no action alternative is estimated to be neutral, with negative social and economic impacts.

Should the Regional Administrator approve the Sector Agreement as proposed, a Letter of Authorization would be issued to each member of the Sector exempting them, conditional upon their compliance with the Sector Agreement, from the GB cod possession restrictions and the requirements of the GOM trip limit exemption program, limits on the number of hooks, the GB Seasonal Closure Area, the 72-hr observer notification requirement, the DAS Leasing Program vessel size restrictions, and proposed differential DAS requirements as specified in § 648.86(b), 648.80(a)(4)(v), 648.81(g), 648.85(a)(3)(ii)(C), 648.82(k)(4)(ix), and 648.82, respectively.

Regulations under the Magnuson-Stevens Fishery Conservation and Management Act require publication of this notification to provide interested parties the opportunity to comment on proposed TAC allocations and plans of operation of sectors.

Dated: March 24, 2006.
Alan D. Risenhoover,
Acting Director, Office of Sustainable Fisheries, National Marine Fisheries Service.

[FR Doc. E6-4664 Filed 3-29-06; 8:45 am]

BILLING CODE 3510-22-S